DEPARTMENT OF AGRICULTURE

Food and Nutrition Service

Agency Information Collection Activities: Scratch Cooking Assessment & Learning Evaluation (SCALE) and Partnerships for Local Agriculture and Nutrition Transformation in Schools (PLANTS) Data Request for School Food Authorities

AGENCY: Food and Nutrition Service (FNS), USDA.

ACTION: Notice.

SUMMARY: The Chef Ann Foundation (CAF) is a cooperative argreement recipient from the United States Department of Agriculture's (USDA's) Food and Nutrition Service (FNS). CAF plans to collect additional information from sub-grantees, based on an assessment and data report, which is beyond the information already approved under OMB Control Number: 0584-0512 (Expiration Date: July 31, 2025). FNS already has OMB approval for collection of information associated with these grants under the Uniform Grant Application for Non-Entitlement Discretionary Grants, as approved under OMB Control Number: 0584-0512. This notice solicits public comment on the additional information proposed for collection.

DATES (if applicable): Written comments must be received on or before April 3, 2024.

ADDRESSES: Comments may be sent to: Brittany Gorman, Food and Nutrition Service, U.S. Department of Agriculture, via email to brittany.gorman@usda.gov. Comments will also be accepted through the Federal eRulemaking Portal. Go to http://www.regulations.gov and follow the online instructions for submitting comments electronically.

All comments will be a matter of public record.

FOR FURTHER INFORMATION CONTACT: Requests for additional information or copies of this information collection should be directed to Brittany Gorman at 703-305-2621 or Brittany.gorman@usda.gov.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Background

In 2023, CAF was selected as one of four cooperative agreement holders for the USDA FNS Healthy Meals Incentives Initiative School Food System Transformation Challenge. As part of this initiative, CAF created the sub-grant program, Partnerships for Local Agriculture and Nutrition Transformation in Schools (PLANTS), and will award eight proposals for projects working to build more resilient local food supply chains and expand scratch cooking in schools. PLANTS is already approved under Uniform Grant Application for Non-Entitlement Discretionary Grants, OMB Control Number 0584-0512 with an expiration of July 31, 2025. Eligible applications must be collaboratively administered by at least three Partners and no more than five Partners. An eligible application must include at least one School Food Authority (SFA) and is permitted to include up to four SFAs. SFAs that are awarded a PLANTS grant will be required to complete the SCALE assessment and the PLANTS Data Request annually, for a total of three times, throughout the grant period (April 2024-June 2027).

Scratch Cooking in School Meal Programs

Every day 31 million children rely on school meals to meet their nutritional needs so they are well nourished and ready to learn. CAF is dedicated to promoting whole-ingredient, scratch cooking in schools by providing school nutrition professionals with the funding and support they need to transition their meal programs to include more scratch cooking.

Scratch cooking uses real food with real ingredients and has the potential to catalyze multiple benefits across the school food system—environmental, economic, social. In the context of USDA's Healthy Meals Incentives Initiative and the PLANTS grant, scratch cooking also enables SFAs to play a critical role in building more resilient regional food systems. By leveraging their food purchases, SFAs have the potential to become meaningful markets for local producers (e.g., farmers, ranchers, fisherfolk), food hubs, and other food businesses. These dollars have powerful ripple effects on local economies that build greater prosperity and food system resilience while feeding children fresher, high-quality, and nutritious foods.

The benefits of scratch cooking are clear. However, many SFAs that want to improve their meal programs do not have the bandwidth to assess their current operations or determine where to start.

How does the scale assessement and plants data request support scratch cooking in schools?

After over 12 years of school food operational support, CAF built SCALE, an online database that offers the first comprehensive self-assessment focused on improving nutrition, enhancing school meal programs, and increasing scratch cooking. This assessment examines a district's food service operation practices in 6 Key Areas:

• Food—menu cycles, procurement, reporting

• Scratch Cooking—ingredients, processed elements

• Finances—budgets, revenue/deficit, labor cost

• Facilities—equipment, production, storage

• Human Resources—personnel, professional development

• Marketing—communication channels, lunchroom education activities

Once a district completes the assessment, the platform generates an individualized report with recommended practices designed to increase operational capacity and levels of scratch cooking. The PLANTS Data Request, which has been customized for the PLANTS program, supplements data collected from SFAs via the SCALE assessment and includes up to two years of data related to an SFA's meal counts, financial, procurement, menu, educational, and marketing practices. The SCALE assessment and PLANTS Data Request lay the foundation for all strategic planning, technical assistance, and evaluative support that CAF provides SFAs to transition to scratch cooking and achieve their PLANTS project goals.

Affected Public: Business or other for profit; and State, local, and Tribal government. Respondent groups identified include a representative from each subgrantee and any Partner that is a SFA or School District. Representatives may include the Food Service Director and/or a designated food service employee. A School Food Authority is defined as the administering body for the operation of a school feeding program (such as the National School Lunch Program and School Breakfast Program). This may be a school district, several school districts, or individual schools. Schools can be public, public charter, or private schools.

Estimated Number of Respondents: The total estimated number of respondents is 32. PLANTS will award eight grants to projects that are collaboratively administered by at least three partners and no more than five partners. An eligible application must include at least one SFA and is permitted to include up to four SFAs. Therefore, a minimum of eight SFAs and a maximum of 32 SFAs will complete the SCALE assessment and PLANTS Data Request. It is expected that a majority of the Directors of the SFAs will complete the assessment (24), while larger organizations may require other food service personnel to complete the assessment (8).

Estimated Number of Responses per Respondent: The estimated number of responses per respondent is 1 per year. SFAs will be asked to complete the SCALE assessment and PLANTS Data Request three separate times during the grant implementation period between April 2024-June 2027.

Estimated Total Annual Responses: 32.

Estimated Time per Response: The estimated average time for this collection is 4.5 hours. FNS estimates that it will take each respondent 1.5 hours to complete the SCALE assessment and 3 hours to complete the PLANTS Data Request.

Estimated Total Annual Burden on Respondents: 144.00 hours. See the table below for estimated total annual burden for each type of respondent.

| Respondents | Estimated number of respondents | Responses annually per respondent | Total annual responses | Estimated avg. number of hours per response | Estimated total hours
| (A) | (B) | (C) | (B) × (C) = (D) | (E) | (D) × (E) = (F)
| Reporting Burden
Local Government | Director of Food Services | 23 | 1 | 23 | 4.5 | 103.5
| Food Service Employee | 8 | 1 | 8 | 4.5 | 36
Sub-total |  | 31 |  | 31 |  | 139.5
For-Profit Business | Food Service Director | 1 | 1 | 1 | 4.5 | 4.5
Total |  | 32.00 | 1 | 32.00 | 4.5 | 144.00

The supporting statement for approved Information Collection Request 0584-0512 explicitly states that if FNS decides to use the uniform grant application package, FNS will note in the grant solicitation that applicants must use the uniform grant application package, and that the information collection has already been approved by OMB. If FNS determines that it needs grant applicants to provide additional information not contained in the uniform package, then FNS will publish at least a 30-day notice soliciting comments on its proposal to collect different or additional information before issuing the grant solicitation. FNS is publishing this 30-day notice to solicit public comment and meet that requirement.

FNS will consider and utilize public comments to adjust the collection of additional information as appropriate and necessary.

Tameka Owens,
Assistant Administrator, Food and Nutrition Service.

[FR Doc. 2024-04492 Filed 3-1-24; 8:45 am]

BILLING CODE 3410-30-P